DEPARTMENT OF HEALTH AND HUMAN SERVICES

Food and Drug Administration

[Docket No. FDA-2017-D-1956]

Identifying Trading Partners Under the Drug Supply Chain Security Act; Draft Guidance for Industry; Availability

Correction

Notice document 2017-17569, appearing on pages 39589 through 39590, in the issue of Monday, August 21, 2017, was published in error. It should be removed.

[FR Doc. C1-2017-17569 Filed 8-22-17; 8:45 am]

BILLING CODE 1301-00-D